ENVIRONMENTAL PROTECTION AGENCY

[EPA-HQ-OPP-2021-0015; FRL-10022-13]

Product Cancellation Order for Certain Pesticide Registrations

AGENCY: Environmental Protection Agency (EPA).

ACTION: Notice.

SUMMARY: This notice announces EPA's order for the cancellations, voluntarily requested by the registrants and accepted by the Agency, of the products listed in Table 1 of Unit II, pursuant to the Federal Insecticide, Fungicide, and Rodenticide Act (FIFRA). This cancellation order follows a February 17, 2021 Federal Register Notice of Receipt of Requests from the registrants listed in Table 2 of Unit II to voluntarily cancel these product registrations. In the February 17, 2021 notice, EPA indicated that it would issue an order implementing the cancellations, unless the Agency received substantive comments within the 30-day comment period that would merit its further review of these requests, or unless the registrants withdrew their requests. The Agency received three public comments on the notice, but none merited its further review of the requests. Further, the registrant of 70596-9 & 15440-31 withdrew their requests for cancellation; therefore, these registrations have been removed from this notice. Accordingly, EPA hereby issues in this notice a cancellation order granting the requested cancellations. Any distribution, sale, or use of the products subject to this cancellation order is permitted only in accordance with the terms of this order, including any existing stocks provisions.

DATES: The cancellations are effective April 2, 2021.

FOR FURTHER INFORMATION CONTACT: Christopher Green, Registration Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2021-0015, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by registrants, of products registered under FIFRA section 3 (7 U.S.C. 136a). These registrations are listed in sequence by registration number in Table 1 of this unit.

Table 1—Product Cancellations
Registration No. | Company No. | Product name | Active ingredients
228-180 | 228 | Riverdale 3-Way Weed and Feed with Triamine | MCPP-P, DMA salt; 2,4-DP-p, DMA salt & 2,4-D, dimethylamine salt.
228-184 | 228 | Riverdale Sweet Sixteen Weed and Feed with Triamine | MCPP-P, DMA salt; 2,4-DP-p, DMA salt & 2,4-D, dimethylamine salt.
228-210 | 228 | Triamine Premium Liquid Weed & Feed | 2,4-DP-p, DMA salt; 2,4-D, dimethylamine salt & MCPP-P, DMA salt.
228-211 | 228 | Triamine 3-Way Lawn Weed Killer | 2,4-DP-p, DMA salt; 2,4-D, dimethylamine salt & MCPP-P, DMA salt.
228-269 | 228 | Sweet Sixteen Weed and Feed with Tri-Power (R) | Dicamba, dimethylamine salt; MCPA, dimethylamine salt & MCPP-P, DMA salt.
228-270 | 228 | Riverdale Tri-Power (R) Weed and Feed | Dicamba, dimethylamine salt; MCPA, dimethylamine salt & MCPP-P, DMA salt.
228-271 | 228 | Riverdale Tri-Power (R) Lawn Weed Killer | Dicamba, dimethylamine salt; MCPA, dimethylamine salt & MCPP-P, DMA salt.
228-272 | 228 | Riverdale Tri-Power (R) Spot Weed Killer | Dicamba, dimethylamine salt; MCPA, dimethylamine salt & MCPP-P, DMA salt.
228-276 | 228 | Riverdale Tri-Power (R) Liquid Weed and Feed | Dicamba, dimethylamine salt; MCPA, dimethylamine salt & MCPP-P, DMA salt.
228-277 | 228 | Tri-Power Premium Liquid Weed and Feed | Dicamba, dimethylamine salt; MCPA, dimethylamine salt & MCPP-P, DMA salt.
228-278 | 228 | Riverdale Triamine Premium Granular Weed Killer | 2,4-DP-p, DMA salt; 2,4-D, dimethylamine salt & MCPP-P, DMA salt.
228-284 | 228 | Tri-Power (R) Jet-Spray Spot Weed Killer | Dicamba, dimethylamine salt; MCPA, dimethylamine salt & MCPP-P, DMA salt.
228-286 | 228 | Riverdale Tri-Power L.A. Weed and Feed | Dicamba, dimethylamine salt; MCPA, dimethylamine salt & MCPP-P, DMA salt.
228-288 | 228 | Riverdale Triplet (R) Sensitive | MCPP-P, DMA salt; Dicamba, dimethylamine salt & 2,4-D, dimethylamine salt.
228-293 | 228 | Riverdale Dissolve (R) 4000 Weed and Feed | Dimethylamine 2-(2,4-dichlorophenoxy)propionate; 2,4-DP-p, DMA salt & MCPP-P, DMA salt.
228-302 | 228 | Riverdale Triplet (R) L.A. Selective Herbicide | Dicamba, dimethylamine salt; MCPP-P, DMA salt & 2,4-D, dimethylamine salt.
228-303 | 228 | Tri-Power (R) Granular Weed Killer | MCPA, dimethylamine salt; Dicamba, dimethylamine salt & MCPP-P, DMA salt.
228-304 | 228 | 3-Way Weed and Feed with Tri-Power (R) | MCPA, dimethylamine salt; Dicamba, dimethylamine salt & MCPP-P, DMA salt.
228-305 | 228 | Riverdale Dissolve (R) Granular Weed Killer | MCPP-P, DMA salt; 2,4-DP-p, DMA salt & 2,4-D, dimethylamine salt.
228-311 | 228 | Riverdale Triplet Hi-D Selective Herbicide | MCPP-P, DMA salt; Dicamba, dimethylamine salt & 2,4-D, dimethylamine salt.
228-342 | 228 | Dissolve Premium Granular Weed Killer | Dimethylamine 2-(2,4-dichlorophenoxy)propionate; 2,4-DP-p, DMA salt & MCPP-P, DMA salt.
228-348 | 228 | Dissolve LBN Weed and Feed | 2,4-D, dimethylamine salt; 2,4-DP-p, DMA salt & MCPP-P, DMA salt.
228-372 | 228 | Eclipse Selective Herbicide | 2,4-DP-p, DMA salt; MCPA, dimethylamine salt & Clopyralid, monoethanolamine salt.
228-489 | 228 | Triplet Low Odor Premium Lawn Weed Killer Concentrate | Dicamba; 2,4-D, triisopropanolamine salt & MCPP-P, DMA salt.
228-490 | 228 | Triplet Low Odor Premium Weed and Feed | Dicamba; 2,4-D, triisopropanolamine salt & MCPP-P, DMA salt.
228-492 | 228 | Triplet Low Odor Premium Granular Weed Killer | Dicamba; 2,4-D, triisopropanolamine salt & MCPP-P, DMA salt.
228-493 | 228 | Triplet Low Odor L.A. Granular Weed Killer | Dicamba; 2,4-D, triisopropanolamine salt & MCPP-P, DMA salt.
228- 503 | 228 | Triplet Low Odor Premium Weed and Feed (18/5) | Dicamba; MCPP-P, DMA salt & 2,4-D, triisopropanolamine salt.
228-504 | 228 | Triplet Low Odor Premium Weed and Feed (20/5) | Dicamba; MCPP-P, DMA salt & 2,4-D, triisopropanolamine salt.
228-505 | 228 | Triplet Low Odor L.A. Premium Weed and Feed (16/5) | Dicamba; MCPP-P, DMA salt & 2,4-D, triisopropanolamine salt.
228-506 | 228 | Triplet Low Odor L.A. Premium Weed and Feed (18/5) | Dicamba; MCPP-P, DMA salt & 2,4-D, triisopropanolamine salt.
228-507 | 228 | Triplet Low Odor L.A. Premium Weed and Feed (20/5) | Dicamba; MCPP-P, DMA salt & 2,4-D, triisopropanolamine salt.
228-508 | 228 | Triplet Low Odor Premium 8000 Lawn Weed Killer Concentrate | Dicamba; 2,4-D, triisopropanolamine salt & MCPP-P, DMA salt.
228-511 | 228 | Triplet Low Odor Premium Spot Lawn Weed Killer Ready-To-Spray | Dicamba; 2,4-D, triisopropanolamine salt & MCPP-P, DMA salt.
228-593 | 228 | NUP-08041 Ready-To-Use | Pyraflufen-ethyl; Dicamba; MCPP-P, DMA salt & 2,4-D, 2-ethylhexyl ester.
228-712 | 228 | NUP-08040 Premium 8000 Lawn Weed Killer Concentrate | Pyraflufen-ethyl; Dicamba; MCPP-P, DMA salt & Isooctyl(2-ethyl-4-methylpentyl) 2,4-dichlorophenoxyacetate.
279-3083 | 279 | Pounce WSB Insecticide | Permethrin.
478-114 | 478 | Real-Kill Vegetation Killer | Diquat dibromide.
499-567 | 499 | Tygro Mite Fogger | Etoxazole.
538-168 | 538 | Scotts Improved Super Turf Builder Plus 2 | 2,4-D & Mecoprop-P.
961-422 | 961 | Preen Landscape Mulch Plus 3 | Bifenthrin; Trifluralin & Isoxaben.
1007-99 | 1007 | Nolvasan Solution | Chlorhexidine diacetate.
1007-100 | 1007 | Fort Dodge Nolvasan S | Chlorhexidine diacetate.
1007-101 | 1007 | Chlorhexidine Diacetate | Chlorhexidine diacetate.
5481-597 | 5481 | Scepter Herbicide | 3-Quinolinecarboxylic acid, 2-(4,5-dihydro-4-methyl-4-(1-methylethyl)-5-oxo-1H-imidazol-2-yl)-, monoammonium salt.
5481-598 | 5481 | Scepter Herbicide Contains Surfactant | 3-Quinolinecarboxylic acid, 2-(4,5-dihydro-4-methyl-4-(1-methylethyl)-5-oxo-1H-imidazol-2-yl)-, monoammonium salt.
5481-601 | 5481 | Timeout Grass Growth Regulator and Weed Killer | 3-Quinolinecarboxylic acid, 2-(4,5-dihydro-4-methyl-4-(1-methylethyl)-5-oxo-1H-imidazol-2-yl)-, monoammonium salt.
5481-603 | 5481 | Time Out Plus Herbicide | 3-Quinolinecarboxylic acid, 2-(4,5-dihydro-4-methyl-4-(1-methylethyl)-5-oxo-1H-imidazol-2-yl)-, monoammonium salt.
5481-604 | 5481 | Imazaquin/Imazethapyr DG | Imazethapyr & Imazaquin.
5481-606 | 5481 | Backdraft Herbicide | Glyphosate-isopropylammonium & Imazaquin.
5481-607 | 5481 | Backdraft CP Herbicide | Imazaquin.
5481-608 | 5481 | Backdraft SL Herbicide | Glyphosate-isopropylammonium & Imazaquin.
7969-268 | 7969 | Acronis Fungicide Seed Treatment | Pyraclostrobin & Thiophanate-methyl.
7969-352 | 7969 | Xemium 703 Fungicide ST | Fluxapyroxad & Pyraclostrobin.
7969-379 | 7969 | Priaxor Plus Fungicide | Cyproconazole; Pyraclostrobin & Fluxapyroxad.
9688-93 | 9688 | Chemsico Grass & Weed Killer A | Diquat dibromide.
9688-188 | 9688 | Chemsico Herbicide Concentrate DG | Diquat dibromide & Glyphosate-isopropylammonium.
9688-191 | 9688 | Chemsico Herbicide DG RTU | Diquat dibromide & Glyphosate-isopropylammonium.
9688-205 | 9688 | Chemsico Herbicide Concentrate DG II | Glyphosate-isopropylammonium & Diquat dibromide.
9688-211 | 9688 | Chemsico Herbicide Concentrate DT | Glyphosate & Diquat dibromide.
9688-213 | 9688 | Chemsico Herbicide RTU DT | Diquat dibromide & Glyphosate.
9688-278 | 9688 | Chemisco Herbicide Concentrate 1455 | Sulfentrazone; Dicamba, dimethylamine salt; MCPP-P, DMA salt & MCPA, dimethylamine salt.
9688-279 | 9688 | Chemisco RTU Herbicide 1456 | Sulfentrazone; Dicamba, dimethylamine salt; MCPP-P, DMA salt & MCPA, dimethylamine salt.
9688-283 | 9688 | Herbicide Concentrate 4B | Fluazifop-P-butyl; Dicamba, dimethylamine salt; Oxyfluorfen & Diquat dibromide.
9688-284 | 9688 | Chemsico Herbicide RTU 4B | Diquat dibromide; Fluazifop-P-butyl; Dicamba, dimethylamine salt & Oxyfluorfen.
9688-289 | 9688 | Chemsico Pesticide Concentrate WI-N | 2,4-D, dimethylamine salt; MCPP-P, DMA salt; Dicamba, dimethylamine salt & gamma-Cyhalothrin.
9688-290 | 9688 | Chemsico Pesticide Concentrate WI-S | gamma-Cyhalothrin; Dicamba, dimethylamine salt; 2,4-D, dimethylamine salt & MCPP-P, DMA salt.
9688-310 | 9688 | Chemsico Pesticide Granules WI-N | Dicamba, dimethylamine salt; MCPP-P, DMA salt; 2,4-D, dimethylamine salt & gamma-Cyhalothrin.
9688-311 | 9688 | Chemsico Pesticide Granules WI-S | Dicamba, dimethylamine salt; MCPP-P, DMA salt; 2,4-D, dimethylamine salt & gamma-Cyhalothrin.
10324-57 | 10324 | Maquat 42 | Alkyl* dimethyl benzyl ammonium chloride *(60%C14, 30%C16, 5%C18, 5%C12) & Alkyl* dimethyl ethylbenzyl ammonium chloride *(68%C12, 32%C14).
10324-71 | 10324 | Maquat 280 | Alkyl* dimethyl benzyl ammonium chloride *(60%C14, 30%C16, 5%C18, 5%C12) & Alkyl* dimethyl ethylbenzyl ammonium chloride *(68%C12, 32%C14).
10324-158 | 10324 | Maquat 2420 TBD-9 | Alkyl* dimethyl benzyl ammonium chloride *(50%C14, 40%C12, 10%C16) & 1-Decanaminium, N-decyl-N,N-dimethyl-, chloride.
10324-160 | 10324 | Maquat 2420 TNT | Alkyl* dimethyl benzyl ammonium chloride *(50%C14, 40%C12, 10%C16) & 1-Decanaminium, N-decyl-N,N-dimethyl-, chloride.
10324-164 | 10324 | Maquat 256 PD | Alkyl* dimethyl ethylbenzyl ammonium chloride *(68%C12, 32%C14) & Alkyl* dimethyl benzyl ammonium chloride *(60%C14, 30%C16, 5%C18, 5%C12).
10324-176 | 10324 | Maquat 2420 TBD-20 | Alkyl* dimethyl benzyl ammonium chloride *(50%C14, 40%C12, 10%C16); 1-Decanaminium, N-decyl-N,N-dimethyl-, chloride & Hydrochloric acid.
34704-927 | 34704 | Chaser Ultra 2 Selective Herbicide | 2,4-DP-p, DMA salt; Fluroxypyr-meptyl & MCPA, dimethylamine salt.
42750-354 | 42750 | Cloransulam 84% WDG | Cloransulam-methyl.
42750-355 | 42750 | Cloransulam + Sulfentrazone WDG | Cloransulam-methyl & Sulfentrazone.
42750-356 | 42750 | Cloransulam-methyl Technical | Cloransulam-methyl.
46515-16 | 46515 | Super K-Gro Vegetation Killer Formula II | Diquat dibromide.
46515-32 | 46515 | Super K-Gro All Purpose Garden Spray | Esfenvalerate.
47000-170 | 47000 | Sureco Permethrin RTU Spray | Permethrin.
61282-54 | 61282 | Bioguard GP Disinfectant Sanitizer | Alkyl* dimethyl benzyl ammonium chloride *(50%C14, 40%C12, 10%C16).
72726-1 | 72726 | Poridon | Piperonyl butoxide & Permethrin.
ID-070001 | 10163 | Onager Miticide | Hexythiazox.
ID-080013 | 10163 | Onager Miticide | Hexythiazox.
MS-090005 | 279 | Dragnet SFR Insecticide | Permethrin.
SC-080002 | 5905 | Pounce 3.2 EC Insecticide | Permethrin.

Table 2 of this unit includes the names and addresses of record for all registrants of the products in Table 1 of this unit, in sequence by EPA company number. This number corresponds to the first part of the EPA registration numbers of the products listed in Table 1 of this unit.

Table 2—Registrants of Cancelled Products
EPA Company No. | Company name and address
228 | NuFarm Americas, Inc., 4020 Aerial Center Pkwy., Ste., 101, Morrisville, NC 27560.
279 | FMC Corporation, 2929 Walnut Street, Philadelphia, PA 19104.
478 | Realex, Div. of United Industries Corp., P.O. Box 142642, St Louis, MO 631140642.
499 | BASF Corporation, 26 Davis Drive, P.O. Box 13528, Research Triangle Park, NC 27709-3528.
538 | Scotts Company, The, 14111 Scottslawn Road, Marysville, OH 43041.
961 | Lebanon Seaboard Corporation, 1600 East Cumberland Street, Lebanon, PA 17042.
1007 | Zoetis, Inc., 333 Portage Street, Kalamazoo, MI 49007-4931.
5481 | AMVAC Chemical Corporation, 4695 MacArthur Court, Suite 1200, Newport Beach, CA 92660-1706.
5905 | Helena Agri-Enterprises, LLC, D/B/A Helena Chemical Comp, 225 Schilling Blvd., Suite 300, Collierville, TN 38017.
7969 | BASF Corporation, 26 Davis Drive, P.O. Box 13528, Research Triangle Park, NC 27709-3528.
9688 | Chemsico, A Division of United Industries Corp., P.O. Box 142642, St Louis, MO 63114-0642.
10163 | BASF Corporation, 26 Davis Drive, P.O. Box 13528, Research Triangle Park, NC 27709-3528.
10324 | Mason Chemical Company, 9075 Centre Pointe Dr., Suite 400, West Chester, OH 45069.
34704 | Loveland Products, Inc., P.O. Box 1286, Greeley, CO 80632-1286.
42750 | Albaugh, LLC, 1525 NE 36th Street, Ankeny, IA 50021.
46515 | Celex, Division of United Industries Corp., P.O. Box 142642, St Louis, MO 63114-0642.
47000 | Chem-Tech, Ltd., 620 Lesher Place, Lansing, MI 48912.
61282 | Hacco, Inc., 620 Lesher Place, Lansing, MI 48912.
72726 | Neogen Corporation, 620 Lesher Place, Lansing, MI 48912.

III. Summary of Public Comments Received and Agency Response to Comments

The Agency received three public comments on the notice. The Agency does not believe that the comments submitted during the comment period merit further review or a denial of the requests for voluntary cancellation. NuFarm Americas, Inc, withdrew their two requests, 70596-9 & 15440-31 for cancellation.

IV. Cancellation Order

Pursuant to FIFRA section 6(f) (7 U.S.C. 136d(f)), EPA hereby approves the requested cancellations of the registrations identified in Table 1 of Unit II. Accordingly, the Agency hereby orders that the product registrations identified in Table 1 of Unit II are canceled. The effective date of the cancellations that are the subject of this notice is April 2, 2021. Any distribution, sale, or use of existing stocks of the products identified in Table 1 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of February 17, 2021 (86 FR 9931) (FRL-10019-58). The comment period closed on March 19, 2021.

VI. Provisions for Disposition of Existing Stocks

Existing stocks are those stocks of registered pesticide products which are currently in the United States and which were packaged, labeled, and released for shipment prior to the effective date of the cancellation action. The existing stocks provisions for the products subject to this order are as follows.

A. For Products 1007-99, 1007-100 and 1007-101

For products 1007-99, 1007-100 and 1007-101, the registrant has requested to sell its existing stocks of Chlorhexidine diacetate containing pesticides until May 31, 2021, the registrants will be permitted to sell and distribute existing stocks of these voluntarily canceled products until May 31, 2021. Thereafter, registrants will be prohibited from selling or distributing the identified products in Table 1 of Unit II, except for export consistent with FIFRA section 17 (7 U.S.C. 136o) or for proper disposal.

B. For Products 10324-57, 10324-71, 10324-158, 10324-160, 10324-164, 10324-176

For products 10324-57, 10324-71, 10324-158, 10324-160, 10324-164, 10324-176, the registrant has requested 18-months to sell existing stocks, registrants will be permitted to sell and distribute existing stocks of these voluntarily canceled products for 18-months after the effective date of the cancellation, which will be the date of publication of this cancellation order in the Federal Register.

C. For Product 61282-54

For product 61282-54, the registrant has requested 13-months to sell existing stocks, registrants will be permitted to sell and distribute existing stocks of the voluntarily canceled product for 13-months after the effective date of the cancellation, which will be the date of publication of this cancellation order in the Federal Register. Thereafter, registrants will be prohibited from selling or distributing these products identified in Table 1 of Unit II, except for export consistent with FIFRA section 17 (7 U.S.C. 136o) or for proper disposal.

For all other voluntary product cancellations listed in Table 1 of Unit II, the registrants may continue to sell and distribute existing stocks of these other products listed in Table 1 of Unit II until April 4, 2022, which is 1 year after the publication of the Cancellation Order in the Federal Register. Thereafter, the registrants are prohibited from selling or distributing the other products listed in Table 1, except for export in accordance with FIFRA section 17 (7 U.S.C. 136o), or proper disposal. Persons other than the registrants may sell, distribute, or use existing stocks of products listed in Table 1 of Unit II until existing stocks are exhausted, provided that such sale, distribution, or use is consistent with the terms of the previously approved labeling on, or that accompanied, the canceled products.

Authority: 7 U.S.C. 136 et seq.

Dated: March 26, 2021.
Marietta Echeverria,
Acting Director, Registration Division, Office of Pesticide Programs.

[FR Doc. 2021-06845 Filed 4-1-21; 8:45 am]

BILLING CODE 6560-50-P